DEPARTMENT OF COMMERCE

National Oceanic and Atmospheric Administration

RIN 0648-XD697

South Atlantic Fishery Management Council (Council); Public Meetings

AGENCY: National Marine Fisheries Service (NMFS), National Oceanic and Atmospheric Administration (NOAA), Commerce.

ACTION: Notice of public hearing and scoping meetings.

SUMMARY: The South Atlantic Fishery Management Council (SAFMC) will hold a series of public hearings pertaining to Amendment 35 to the Snapper Grouper Fishery Management Plan (FMP) for the South Atlantic and a scoping meeting for Amendment 26 to the Coastal Migratory Pelagic FMP for the South Atlantic and Gulf of Mexico.

DATES: The meetings will be held January 13, 2015 through February 4, 2015. A public hearing for Snapper Grouper Amendment 35 will be held in Key West, FL on January 13, 2015 beginning at 5:30 p.m.; a public hearing for Snapper Grouper Amendment 35 and a scoping meeting for Coastal Migratory Pelagic Amendment 26 will be held in Cocoa Beach on January 21, 2015 from 4 p.m. until 7 p.m., and a public hearing for Snapper Grouper Amendment 35 will be held in Georgetown, SC on January 27, 2015 from 4 p.m. until 7 p.m. In addition, a public scoping meeting for Coastal Migratory Pelagic Amendment 26 will be held via webinar on February 4, 2015 beginning at 6 p.m.

ADDRESSES:

Meeting Addresses:

1. January 13, 2015: Marriott Key West Beachside, 3841 N. Roosevelt Blvd., Key West, FL 33040; phone: (305) 296-8100.

2. January 21, 2015: Hilton Cocoa Beach Oceanfront, 1550 N. Atlantic Ave., Cocoa Beach, FL 32931; phone: (321) 799-0003.

3. January 27, 2015: Kimbel Lodge at Hobcaw Barony, 22 Hobcaw Road, Georgetown, SC 29442; phone: (843) 904-9024.

4. February 4, 2015: Scoping via Webinar at 6 p.m.—registration for the Webinar is required. Information regarding registration will be posted on the Council's Web site at www.safmc.net.

Council Address: South Atlantic Fishery Management Council, 4055 Faber Place Drive, Suite 201, N. Charleston, SC 29405.

FOR FURTHER INFORMATION CONTACT: Kim Iverson, Public Information Officer, SAFMC; phone: (843) 571-4366 or toll free (866) SAFMC-10; fax: (843) 769-4520; email: kim.iverson@safmc.net.

SUPPLEMENTARY INFORMATION: The items of discussion are as follows:

Public Hearing: Amendment 35 to the Snapper Grouper FMP

This amendment would remove four species from the Snapper Grouper Fishery Management Unit (black snapper, dog snapper, mahogany snapper and schoolmaster). In addition, the amendment would make modifications to the current commercial longline endorsements for golden tilefish. The changes to the endorsements are being proposed to reflect the Council's intent regarding which gear-specific quota (longline or hook-and-line) endorsements holders may fish under.

Public Scoping: Amendment 26 to the Coastal Migratory Pelagic FMP

The amendment addresses measures for king mackerel, including options to revise Annual Catch Limits and the stock boundary for king mackerel, allow the sale of king mackerel bycatch in the shark gillnet fishery, and establish a sub-quota specific to the new mixing zone.

Written comments may be directed to Bob Mahood, Executive Director, SAFMC (see ADDRESSES) or via email to: Mike.Collins@safmc.net. Note that email comments should specify the name of the amendment in the Subject Line of the email for which comments are being submitted. Public hearing comments for Snapper Grouper Amendment 35 will be accepted until 5 p.m. on February 4, 2015. Scoping comments for Coastal Migratory Pelagic Amendment 26 will be accepted until 5 p.m. on February 11, 2015. Copies of the public hearing and scoping documents are available from the Council's Web site at www.safmc.net.

Council staff will present an overview of the amendments and will be available for informal discussions and to answer questions. Members of the public will have an opportunity to go on record to record their comments on the public hearing and scoping topics for consideration by the Council. Local Council representatives will attend the meetings and listen to public comment.

Although non-emergency issues not contained in this agenda may come before this group for discussion, those issues may not be the subject of formal action during this meeting. Action will be restricted to any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 3 days prior to the meeting.

Note: The times and sequence specified in this agenda are subject to change.

Authority: 16 U.S.C. 1801 et seq.

Dated: January 5, 2015.
Tracey L. Thompson,
Acting Deputy Director, Office of Sustainable Fisheries, National Marine Fisheries Service.

[FR Doc. 2015-00102 Filed 1-8-15; 8:45 am]

BILLING CODE 3510-22-P